DEPARTMENT OF HEALTH AND HUMAN SERVICES

Food and Drug Administration

Antiviral Drugs Advisory Committee; Amendment of Notice

AGENCY: Food and Drug Administration, HHS.

ACTION: Notice.

The Food and Drug Administration (FDA) is announcing an amendment to the notice of meeting of the Antiviral Drugs Advisory Committee. This meeting was announced in the Federal Register of February 2, 2007 (72 FR 5724). The amendment is being made to reflect a change in the Location portion of the document. There are no other changes.

FOR FURTHER INFORMATION CONTACT: Cicely Reese, Center for Drug Evaluation and Research (HFD-21), Food and Drug Administration, 5600 Fishers Lane (for express delivery, 5630 Fishers Lane, rm. 1093) Rockville, MD 20857, 301-827-7001, FAX: 301-827-6776, e-mail: Cicely.reese@fda.hhs.gov, or FDA Advisory Committee Information Line, 1-800-741-8138 (301-443-0572 in the Washington DC area), code 3014512531. Please call the Information Line for up-to-date information on this meeting.

SUPPLEMENTARY INFORMATION: In the Federal Register of February 7, 2007, FDA announced that a meeting of the Antiviral Drugs Advisory Committee would be held on April 24, 2007. On page 5724, in the first column, the Location portion of document is amended to read as follows:

Location: Crowne Plaza Hotel, Kennedy Ballrooms, 8777 Georgia Ave., Silver Spring, MD. The hotel telephone number is 800-971-4654.

This notice is issued under the Federal Advisory Committee Act (5 U.S.C. app. 2) and 21 CFR part 14, relating to advisory committees.

Dated: April 18, 2007.
Randall W. Lutter,
Associate Commissioner for Policy and Planning.

[FR Doc. 07-2001 Filed 4-18-07; 2:52 pm]

BILLING CODE 4160-01-S